DEPARTMENT OF LABOR

Employment and Training Administration

Proposed Information Collection Request (ICR) for the Impact Evaluation of the YouthBuild Program; Comment Request

AGENCY: Employment and Training Administration (ETA), Labor.

ACTION: Notice.

SUMMARY: The Department of Labor (the Department or DOL), as part of its continuing effort to reduce paperwork and respondent burden, conducts a preclearance consultation program to provide the general public and other Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA and displays a currently valid OMB control number, and the public is not required to respond to a collection of information unless it displays a currently valid OMB control number. Also, notwithstanding any other provisions of law, no person shall be subject to penalty for failing to comply with a collection of information if the collection of information does not display a currently valid OMB control number. See 5 CFR 1320.5(a) and 1320.6.

A copy of the proposed ICR can be obtained by contacting the office listed below in the addresses section of this notice or by accessing: http://www.doleta.gov/OMBCN/OMBControlNumber.cfm.

DATES: Written comments must be submitted to the office listed in the addressee section below on or before July 11, 2011.

ADDRESSES: Send comments to Eileen Pederson, U.S. Department of Labor, Employment and Training Administration, Office of Policy Development and Research, 200 Constitution Avenue, NW., Frances Perkins Bldg., Room N-5641, Washington, DC 20210, telephone number (202) 693-3647 (this is not a toll-free number); e-mail address is Pederson.eileen@dol.gov and fax number is (202) 693-2766 (this is not a toll-free number).

SUPPLEMENTARY INFORMATION:

I. Background

The Impact Evaluation of the YouthBuild program is a seven-year experimental design impact evaluation funded by DOL/ETA. This information collection covers the first year of the project. YouthBuild is a youth and community development program that addresses several core issues facing low-income communities: available housing, and youth education, employment and criminal behavior. The program primarily serves high school dropouts and focuses on helping them attain a high school diploma or general educational development, or GED, and teaching them construction skills geared toward career placement. The evaluation will measure core program outcomes including educational attainment, postsecondary planning, employment, earnings, delinquency and involvement with the criminal justice system, and youth social and emotional development. The evaluation represents an important opportunity for DOL to add to the growing body of knowledge about the impacts of “second chance” programs for youth who have dropped out of high school. Compared to peers who remain in school, high school dropouts are more likely to be disconnected from school and work, be incarcerated, be unmarried, and have children outside of marriage.

The evaluation of the YouthBuild program will address the following research questions:

Operation: How is YouthBuild designed in each participating site? What are the key implementation practices that affect how the program operates? How does the local context affect program implementation and the services available to members of the control group?

Participation: What are the characteristics of youth who enroll in the study? How are these characteristics shaped by YouthBuild recruitment and screening practices?

Impacts: What are YouthBuild's impacts on educational attainment, planning, and aspirations? What are YouthBuild's impacts on employment, earnings, and job characteristics? What are YouthBuild's impacts on crime and delinquency? What are the program's impacts on social-emotional development, identity development, and self-regulation?

Costs: How does the net cost per participant compare with the impacts the program generates?

The evaluation study started in June 2010 and is scheduled to continue until July 2017. MDRC, the prime contractor, is working with Mathematica Policy Research and Social Policy Research Associates to design and implement the evaluation. The study includes a baseline information collection, a Web-based questionnaire and a Web-based survey of YouthBuild grantees, site-specific qualitative and cost data, and three mixed-mode (Web and computer-assisted telephone interviewing) surveys of youth that will take place 12, 30, and 48 months after random assignment.

The target population for the study is out-of-school youth aged 16-24, who are from low-income families; in foster care; offenders; migrants; disabled; or are children of incarcerated parents. Of the universe of YouthBuild programs, the study team will recruit 77 sites (60 DOL-funded sites and 17 sites that are not currently funded by DOL but do receive funding from the Corporation for National and Community Service [CNCS], referred to hereafter as CNCS-funded programs) and will seek to enroll 3,465 eligible participants into the study. Study participants will be randomly assigned to either the treatment group, which will be eligible for YouthBuild services, or to the control group which will not be eligible. Study participants will be followed for four years after random assignment.

Data for the study will be collected from YouthBuild grantees and from study participants through the following methods:

Grantee Questionnaire and Survey and Site Visits. A brief grantee questionnaire and subsequent grantee survey will provide information about the grantee sites that run individual YouthBuild programs. The questionnaire will be a mandatory component of grant awards for all DOL-funded and CNCS-funded YouthBuild programs funded in 2011, and will request general information about the staff and participants at each site. Information provided in this questionnaire will be used to inform selection of those grantees which will participate in the participant random assignment component of the evaluation. The grantee survey is also mandatory and will be administered after programs are fully operational. It will request detailed information about the services each program offers, including the frequency and location of particular services, as well as more in-depth information about the staff and participants. The information from the grantee survey will be used to support the implementation analysis and will assess how outcomes may vary across YouthBuild program models. As part of the implementation analysis, the evaluation team will conduct site visits to at least 60 sites. These visits will include classroom observations to assess the quality of instruction, youth focus groups, and semi-structured in-depth interviews with program staff and collect cost data to ascertain the cost of the program.

Baseline Data Forms Completed by Sample Group Members. Prior to random assignment in the sites selected for this component of the study, all eligible youth participants will complete baseline data forms, which will include an Informed Consent Form, a Baseline Information Form, and a Contact Information Form. Taken together, these will provide participants with information about the study while collecting information for both future subgroup analysis and locating study participants during future study follow-ups.

Three Follow-up Surveys of Sample Group Members. Members of both the treatment and control groups will complete follow-up surveys at 12, 30, and 48 months following random assignment. These surveys will request information about the services that participants have received through YouthBuild and other community service providers, as well as information about their educational attainment, postsecondary planning and engagement, employment, earnings, delinquency and involvement with the criminal justice system, and social and emotional development.

At this time, clearance is requested for the site selection questionnaire and grantee survey and the study participant baseline data forms. A future request will be submitted for the follow-up surveys, site visit protocols and cost data collection forms.

II. Desired Focus of Comments

Currently, DOL is soliciting comments concerning the above data collection for the Impact Evaluation of the YouthBuild program. Comments are requested to:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

III. Current Actions

At this time, DOL is requesting clearance for the three study participant enrollment forms—the informed consent form, the baseline information form, and the contact information form—as well as the initial Site Selection Questionnaire and subsequent Grantee Survey. A future request for comment (and OMB clearance) will be submitted for the site visit protocols, cost data forms and follow-up surveys.

Type of review: New information collection request.

Title of collection: Impact Evaluation of the YouthBuild Program.

OMB Control Number: 1205-0NEW.

Affected Public: Low-income, disadvantaged youth and DOL- and CNCS-funded YouthBuild programs.

Cite/Reference/Form/etc: Workforce Investment Act Section 172.

1. The Site Selection Questionnaire:

Frequency: Once.

Total Responses: 117 sites (all 2011 DOL-funded YouthBuild grantees and all 17 of the CNCS-funded grantees [excluding those which receive DOL funding]).

Average Time per Response: 10 minutes per staff for each response.

Estimated Total Burden Hours: 19.5 (117 responses × 10 minutes).

Total Burden Cost: $487.50 (19.5 hours × $25/hour).

2. The study member enrollment forms:

Frequency: Once.

Total Responses: 3,465 study participants.

Average Time per Response: 15 minutes per study participant.

Estimated Total Burden Hours: 866.25 (3,465 participants × 15 minutes each).

Total Burden Cost: $6,280.31 (866.25 hours × $7.25/hour).

3. The Grantee Survey:

Frequency: Once.

Total Responses: 117 sites (all 2011 DOL-funded YouthBuild grantees and all 17 of the CNCS-funded grantees [excluding those which receive DOL funding]).

Average Time per Response: 30 minutes per staff for each response.

Estimated Total Burden Hours: 58.5 (117 responses × 30 minutes).

Total Burden Cost: $1,462.50 (58.5 hours × $25/hour).

Note that, due to rounding, the total amounts may differ from the sum of the components.

Comments submitted in response to this request will be summarized and/or included in the request for Office of Management and Budget approval; they will also become a matter of public record.

Signed at Washington, DC this 5th day of May, 2011.
Jane Oates,
Assistant Secretary for Employment and Training.

[FR Doc. 2011-11531 Filed 5-10-11; 8:45 am]

BILLING CODE 4510-FN-P